DEPARTMENT OF EDUCATION

Office of Special Education and Rehabilitative Services; Special Education—Training and Information for Parents of Children with Disabilities

AGENCY: Department of Education.

ACTION: Notice of Final Waiver.

SUMMARY: We waive the requirements in EDGAR at 34 CFR 75.261(a) that generally prohibit project extensions that involve the obligation of additional Federal funds as applied to the Parent Training and Information Centers (PTIs) funded in Fiscal Year (FY) 1999. As a result of this waiver, these Centers are authorized to carry out additional activities to support fifth year funding. We will issue one-year continuation awards in FY 2003 to the fifteen (15) Parent Training and Information Centers project funded in FY 1999 in order to ensure the most efficient use of Federal funds. Only those grantees who currently hold the FY 1999 four year grant awards under the Parent Training and Information Centers projects would be eligible to apply for the funds.

EFFECTIVE DATE: This waiver takes effect on April 27, 2001.

FOR FURTHER INFORMATION CONTACT: For further information on the waiver under the Training and Information for Parents of Children with Disabilities Program contact Debra Sturdivant or Donna Fluke, U.S. Department of Education, 400 Maryland Avenue, SW., room 3527, Switzer Building, Washington, DC 20202-2641. Telephone: (202) 205-8038 and 205-9161, respectively. FAX: (202) 205-8105. Internet: Debra_Sturdivant@ed.gov and Donna_Fluke@ed.gov

If you use a telecommunication device for the deaf (TDD), you may call the Federal Information Relay Service (FIRS) at 1-800-877-8339.

Individuals with disabilities may obtain this document in an alternate format (e.g., Braille, large print, audiotape, or computer diskette) on request to the contact person listed in the preceding paragraph.

SUPPLEMENTARY INFORMATION: On June 9, 1999, we issued a Notice Inviting Applications for New Awards under the Parent Training and Information Centers Program for Fiscal Year 1999. In this notice, the Department announced that it would make fifteen awards of up to 48 months (four-year cycle awards) under 34 CFR 75.105(c)(3) and the Individuals with Disabilities Education Act (IDEA) to support the establishment of Parent Training and Information Centers that provide training and information to parents of children with disabilities to help improve results for their children. Subsequently the Department determined that these awards should be extended for an additional year.

The fifteen Centers affected by this notice include thirteen State awards and two other awards, one that focuses on the needs of Native American families, and one that focuses on military families. The grant period for these centers extends for four years until May 31, 2003.

Reasons

The IDEA Amendments of 1997 strengthened the role of parents and increased their involvement in decisions about their children's education. Beginning with the awards made under this program in FY 2000, we have determined that making awards for five-year periods reduces the frequency of disruption in services resulting from changes in grantees. On this basis, we believe that it makes the most programmatic sense to issue continuation awards to the existing fiscal year 1999 grantees in order to make their award cycle consistent with the fiscal year 2000 five-year cycle awards. However, to do so, we found it necessary to waive the requirement in 34 CFR 75.261(c)(2), which prohibits project period extensions that involve the obligation of additional Federal funds. We are issuing this waiver at this time in order to give the affected grantees early notice of the availability of a fifth year of funding.

Public Comment

On November 17, 2000, we published a notice of proposed waiver for this program in the Federal Register (65 FR 69620). In response to the Assistant Secretary's invitation in the notice of proposed waiver, we did not receive any comments. This notice of proposed waiver included a discussion of the significant issues on page 69620. Except for minor editorial and technical revisions, there are no differences between the notice of proposed waiver and this notice of final waiver.

Waiver

Based on the response to the notice of proposed waiver, we waive the requirements of 34 CFR 75.261 to the 15 Parent Training and Information Centers (PTIs) receiving four-year awards beginning in FY 1999.

Paperwork Reduction Act of 1980

This waiver has been examined under the Paperwork Reduction Act of 1980 and has been found to contain no information collection requirements.

Electronic Access to This Document

You may view this document, as well as all other Department of Education documents published in the Federal Register, in text or Adobe Portable Document Format (PDF) on the Internet at the following site: www.ed.gov/legislation/FedRegister.

To use PDF you must have Adobe Acrobat Reader, which is available free at the previous site. If you have questions about using PDF, call the U.S. Government Printing Office (GPO), toll free, at 1-888-293-6498; or in the Washington, DC, area at (202) 512-1530.

Note: The official version of this document is published in the Federal Register. Free Internet access to the official edition of the Federal Register and the Code of Federal Regulations is available on GPO Access at: http://www.access.gpo.gov/nara/index.html

(Catalog of Federal Domestic Assistance Number 84.328, Training and Information for Parents of Children with Disabilities.)

Dated: March 22, 2001.
Andrew J. Pepin,
Executive Administrator, for Special Education and Rehabilitative Services.

[FR Doc. 01-7589 Filed 3-27-01; 8:45 am]

BILLING CODE 4000-01-U